DEPARTMENT OF AGRICULTURE

Animal and Plant Health Inspection Service

[Docket No. APHIS-2009-0015]

Notice of Determination of the Highly Pathogenic Avian Influenza Subtype H5N1 Status of Suffolk and Norfolk Counties in England

AGENCY: Animal and Plant Health Inspection Service, USDA.

ACTION: Notice.

SUMMARY: We are advising the public of our determination regarding the highly pathogenic avian influenza (HPAI) subtype H5N1 status of Suffolk and Norfolk Counties, England, following outbreaks in 2007. Based on an evaluation of the animal health status of Suffolk and Norfolk Counties, England, which we made available to the public for review and comment through a previous notice, the Administrator has determined that the importation of live birds, poultry carcasses, parts or products of poultry carcasses, and eggs (other than hatching eggs) of poultry, game birds, and other birds from Suffolk and Norfolk Counties, England, presents a low risk of introducing HPAI H5N1 into the United States.

DATES: Effective Date: This determination will be effective on October 8, 2009.

FOR FURTHER INFORMATION CONTACT: Dr. Ingrid Kotowski, Import Risk Analyst, Regionalization Evaluation Services International, National Center for Import and Export, VS, APHIS, 920 Main Campus Drive, Suite 200, Raleigh, NC 27606; (919) 855-7732.

SUPPLEMENTARY INFORMATION:

Background

On May 7, 2009, we published in the Federal Register (74 FR 21312-21313, Docket No. APHIS-2009-0015) a notice ¹ in which we announced the availability, for review and comment, of an evaluation of the animal health status of Suffolk and Norfolk Counties, England, relative to highly pathogenic avian influenza (HPAI) subtype H5N1. In the evaluation, titled “Evaluation of the Highly Pathogenic Avian Influenza H5N1 Status of Suffolk and Norfolk Counties, England” (January 2009), we presented the results of our evaluation of the status of HPAI H5N1 in domestic poultry in Suffolk and Norfolk Counties, England, in light of the actions taken by the United Kingdom's (UK) animal health authorities since the outbreaks in 2007.

¹ To view the notice, the evaluation, and the comment we received, go to http://www.regulations.gov/fdmspublic/component/main?main=DocketDetail&d=APHIS-2009-0015.

Our evaluation concluded that the UK was able to effectively control and eradicate HPAI H5N1 in their domestic poultry populations and that animal health authorities have adequate control measures in place to rapidly identify, control, and eradicate the disease should it be reintroduced into the UK's wild birds or domestic poultry population.

In our May 2009 notice, we stated that if after the close of the comment period we could identify no additional risk factors that would indicate that domestic poultry in Suffolk and Norfolk Counties, England, continue to be affected with HPAI H5N1, we would conclude that the importation of live birds, poultry carcasses, parts of carcasses, and eggs (other than hatching eggs) of poultry, game birds, or other birds from regions of Suffolk and Norfolk Counties, England, presents a low risk of introducing HPAI H5N1 into the United States.

We solicited comments on the evaluation for 30 days ending on June 9, 2009. We received one comment by that date, from a poultry breeding and genetics firm. The commenter agreed with the findings of our assessment.

Therefore we are removing our prohibition on the importation of these products from Suffolk and Norfolk Counties, England, into the United States. Specifically:

• We are no longer requiring that processed poultry products from Suffolk and Norfolk Counties, England, be accompanied by a Veterinary Service import permit and government certification confirming that the products have been treated according to APHIS requirements;

• We are allowing unprocessed poultry products from Suffolk and Norfolk Counties, England, to enter the United States in passenger luggage; and

• We are removing restrictions regarding the regions of Suffolk and Norfolk Counties, England, from which processed poultry products may originate in order to be allowed entry into the United States in passenger luggage.

However, live birds from Suffolk and Norfolk Counties, England, are still subject to the inspections at ports of entry and post-importation quarantines set forth in 9 CFR part 93, unless granted an exemption by the Administrator or destined for diagnostic purposes and accompanied by a limited permit.

Authority: 7 U.S.C. 450, 7701-7772, 7781-7786, and 8301-8317; 21 U.S.C. 136 and 136a; 31 U.S.C. 9701; 7 CFR 2.22, 2.80, and 371.4.

Done in Washington, DC, this 17th day of September 2009.
Kevin Shea,
Acting Administrator, Animal and Plant Health Inspection Service.

[FR Doc. E9-22929 Filed 9-22-09; 8:45 am]

BILLING CODE 3410-34-P